ENVIRONMENTAL PROTECTION AGENCY

[EPA-HQ-OPP-2007-0540; FRL-8427-5]

Bromonitrostyrene; Product Cancellation Order

AGENCY: Environmental Protection Agency (EPA).

ACTION: Notice.

SUMMARY: This notice announces EPA's order for the cancellation of products containing the pesticide bromonitrostyrene, pursuant to section 6(f)(1) of the Federal Insecticide, Fungicide, and Rodenticide Act (FIFRA), as amended. This cancellation order follows an August 27, 2008 Federal Register Notice of Receipt of Requests from the bromonitrostyrene registrants to voluntarily cancel all their bromonitrostyrene product registrations. These are the last bromonitrostyrene products registered for sale or distribution in the United States. In the August 27, 2008 Notice, EPA indicated that it would issue an order accepting the requests for voluntary cancellation and implementing the cancellations, unless the Agency received substantive comments within the 30-day comment period that would merit its further review of these requests, or unless the registrants withdrew their requests within this period. The Agency did not receive any comments on the notice. Further, the registrants did not withdraw their requests. Accordingly, EPA hereby issues in this notice a cancellation order accepting the requested cancellations and cancelling the affected registrations. Any distribution, sale, or use of the bromonitrostyrene products subject to this cancellation order is permitted only in accordance with the terms of this order, including any existing stocks provisions.

DATES: The cancellations are effective August 12, 2009.

FOR FURTHER INFORMATION CONTACT: ShaRon Carlisle, Antimicrobials Division (7510P), Office of Pesticide Programs, Environmental Protection Agency, 1200 Pennsylvania Ave., NW., Washington, DC 20460-0001; telephone number: (703) 308-6427; fax number: (703) 308-8481; e-mail address: carlisle.sharon@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-0540. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces the cancellation of all end-use and manufacturing-use bromonitrostyrene products registered under section 3 of FIFRA. These registrations are listed in sequence by registration number in Table 1 of this unit.

Table 1.—Bromonitrostyrene Product Cancellations
Registration No. | Product Name
464-683 | Giv-Gard BNS 25% AF
464-684 | Bioban BNS 25% BA Industrial Preservative
464-686 | Canguard 777 Industrial Preservative
74655-5 | Spectrum RX-41
74655-8 | Spectrum RX -45
74655-13 | Spectrum RX -52

Table 2 of this unit includes the names and addresses of record for all registrants of the products in Table 1 of this unit, in sequence by EPA company number.

Table 2.—Registrants of Cancelled Bromonitrostyrene Products
EPA Company No. | Company Name and Address
464 | The Dow Chemical Company 1500 E. Lake Cook Road Buffalo Grove, IL 60089
74655 | Hercules Incorporated Paper Technology and Ventures 7910 Baymeadows Way Jacksonville, FL 32256

III. Summary of Public Comments Received and Agency Response to Comments

During the public comment period provided, EPA received no comments in response to the August 27, 2008 Federal Register notice (73 FR 50614; FRL 8378-4) announcing the Agency's receipt of the requests for voluntary cancellation of all Bromonitrostyrene products.

IV. Cancellation Order

Pursuant to FIFRA section 6(f), EPA hereby approves the requested cancellations of Bromonitrostyrene registrations identified in Table 1 of Unit II. Accordingly, the Agency orders that the Bromonitrostyrene product registrations identified in Table 1 of Unit II. are hereby cancelled. Any distribution, sale, or use of existing stocks of the products identified in Table 1 of Unit II in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

List of Subjects

Environmental protection, Pesticides and pests, Bromonitrostyrene, Antimicrobials.

Dated: July 20, 2009.
Joan Harrigan Farrelly,
Director, Antimicrobials Division, Office of Pesticide Programs.

[FR Doc. E9-19312 Filed 8-11-09; 8:45 am]

BILLING CODE 6560-50-S